FEDERAL TRADE COMMISSION

Agency Information Collection Activities; Proposed Collection; Comment Request; Extension

AGENCY: Federal Trade Commission.

ACTION: Notice.

SUMMARY: In accordance with the Paperwork Reduction Act of 1995 (PRA), the Federal Trade Commission (FTC or Commission) is seeking public comment on its proposal to extend for an additional three years the Office of Management and Budget clearance for its Energy Labeling Rule (the Rule). The current clearance expires on February 29, 2024.

DATES: Comments must be filed by March 25, 2024.

ADDRESSES: Interested parties may file a comment online or on paper, by following the instructions in the Request for Comment part of the SUPPLEMENTARY INFORMATION section below. Written comments and recommendations for the proposed information collection should be sent within 30 days of publication of this notice to www.reginfo.gov/public/do/PRAMain. Find this particular information collection by selecting “Currently under 30-day Review—Open for Public Comments” or by using the search function. The reginfo.gov web link is a United States Government website produced by the Office of Management and Budget (OMB) and the General Services Administration (GSA). Under PRA requirements, OMB's Office of Information and Regulatory Affairs (OIRA) reviews Federal information collections.

FOR FURTHER INFORMATION CONTACT: Hampton Newsome, Attorney, Division of Enforcement, Federal Trade Commission, Room CC-9528, 600 Pennsylvania Avenue NW, Washington, DC 20580, (202) 326-2889.

SUPPLEMENTARY INFORMATION:

Title: Energy Labeling Rule.

OMB Control Number: 3084-0069.

Type of Review: Extension without change of currently approved collection.

Estimated Annual Hours Burden: 821,651 [which is derived from 693,320 hours (testing) + 2,646 hours (reporting) + 807 hours (recordkeeping) + 112,272 hours (labeling) + 6,800 hours (retail and online catalog disclosures) +5,806 hours (online label posting)].

Estimated annual labor cost burden: $24,690,012 in labor costs [which is derived from $22,255,572 (testing) + $50,195 (reporting) + $15,309 (recordkeeping) + $2,129,800 (labeling) + $128,996 (online and catalog disclosures) + $110,140 (online label posting)].

Estimated annual non-labor cost burden: $3,000,000.

Request for Comment

On December 5, 2023, the FTC sought public comment on the information collection requirements associated with the Rule. 88 FR 84330. One comment only stated, “Good,” but added nothing further. No other germane comments were received. Pursuant to the OMB regulations, 5 CFR part 1320, that implement the PRA, 44 U.S.C. 3501 et seq., the FTC is providing this second opportunity for public comment while seeking OMB approval to renew the pre-existing clearance for the Rule.

Your comment—including your name and your state—will be placed on the public record of this proceeding. Because your comment will be made public, you are solely responsible for making sure that your comment does not include any sensitive personal information, such as anyone's Social Security number; date of birth; driver's license number or other state identification number, or foreign country equivalent; passport number; financial account number; or credit or debit card number. You are also solely responsible for making sure that your comment does not include any sensitive health information, such as medical records or other individually identifiable health information. In addition, your comment should not include any “trade secret or any commercial or financial information which . . . is privileged or confidential”—as provided by Section 6(f) of the FTC Act, 15 U.S.C. 46(f), and FTC Rule 4.10(a)(2), 16 CFR 4.10(a)(2)—including in particular competitively sensitive information such as costs, sales statistics, inventories, formulas, patterns, devices, manufacturing processes, or customer names.

Josephine Liu,
Assistant General Counsel for Legal Counsel.

[FR Doc. 2024-03726 Filed 2-22-24; 8:45 am]

BILLING CODE 6750-01-P